DEPARTMENT OF HOMELAND SECURITY

Coast Guard

33 CFR Part 100

[Docket No. USCG-2009-0562]

Regattas and Marine Parades; Great Lakes Annual Marine Events

AGENCY: Coast Guard, DHS.

ACTION: Notice of enforcement of regulation.

SUMMARY: The Coast Guard will enforce the local regulations for annual regattas and marine parades in the Captain of the Port Detroit zone from 7 a.m. on July 9, 2009 through 6 p.m. on August 2, 2009. This action is necessary and intended to ensure safety of life on the navigable waters immediately prior to, during, and immediately after regattas or marine parades. This rule will establish restrictions upon, and control movement of, vessels in specified areas immediately prior to, during, and immediately after regattas or marine parades. During the enforcement periods, no person or vessel may enter the regulated areas without permission of the Captain of the Port.

DATES: The regulations in 33 CFR 100 will be enforced as listed in the SUPPLEMENTARY INFORMATION section of this document.

FOR FURTHER INFORMATION CONTACT: CDR Joseph Snowden, Prevention, U.S. Coast Guard Sector Detroit, 110 Mount Elliot Ave., Detroit, MI 48207; (313) 568-9508.

SUPPLEMENTARY INFORMATION: The Coast Guard will enforce the following regulated areas which were published in the July 18, 2008 issue of the Federal Register. (73 FR 41261):

§ 100.918 Detroit APBA Gold Cup, Detroit, MI. This regulation is effective from 7 a.m. on July 9, 2009 until 7 p.m. on July 12, 2009. This regulation will be enforced daily from 7 a.m. to 7 p.m. on July 9, 10, 11, and 12, 2009.

§ 100.920 Tug Across the River, Detroit, MI. This regulation is effective from 5:30 p.m. to 7 p.m. on July 17, 2009.

§ 100.914 Trenton Rotary Roar on the River, Trenton, MI.This regulation is effective from 2 p.m. on July 24, 2009 until 8 p.m. on July 26, 2009. This regulation will be enforced from 2 p.m. to 6 p.m. on July 24, 2009, from 8 a.m. to 8 p.m. on July 25, 2009 and from 8 a.m. to 8 p.m. on July 26, 2009.

§ 100.915 St. Clair River Classic Offshore Race, St. Clair, MI. This regulation is effective from 10 a.m. on July 31, 2009 until 6 p.m. on August 2, 2009. This regulation will be enforced daily from 10 a.m. to 6 p.m. on July 31, August 1, and August 2, 2009.

In accordance with the general regulations in section 100.901 of this part, entry into, transiting, or anchoring within these regulated areas is prohibited unless authorized by the Captain of the Port Detroit or the Patrol Commander.

These regulated areas are closed to all vessel traffic, except as may be permitted by the Captain of the Port Detroit or the Patrol Commander.

Vessel operators given permission to enter or operate in the regulated area must comply with all directions given to them by the Captain of the Port or the Patrol Commander.

Dated: June 24, 2009.
F.M. Midgette,
Captain, U.S. Coast Guard, Captain of the Port Detroit.

[FR Doc. E9-16684 Filed 7-14-09; 8:45 am]

BILLING CODE 4910-15-P